DEPARTMENT OF THE TREASURY

Request for Information Related to the Executive Order, “Modernizing Payments To and From America's Bank Account”

AGENCY: Departmental Offices, Department of the Treasury.

ACTION: Request for information (RFI).

SUMMARY: The U.S. Department of the Treasury (Treasury) invites public input to inform its implementation of the President's Executive Order (E.O.) 14247 on “Modernizing Payments To and From America's Bank Account” issued on March 25, 2025, which, among other items, directs the Secretary of the Treasury to cease issuing paper checks and transition to the use of electronic payments for all Federal disbursements where feasible. This request for information (RFI) offers the opportunity for interested individuals and organizations to provide feedback on matters related to Treasury's implementation of E.O. 14247, in particular Treasury's efforts to advance a public awareness campaign that will help consumers, including unbanked and underbanked populations, transition to digital payments as contemplated by the E.O.

DATES: Written comments and information are requested on or before June 30, 2025.

ADDRESSES: Please submit comments electronically through the Federal eRulemaking Portal: https://www.regulations.gov, specifically at https://www.regulations.gov/docket/TREAS-DO-2025-0004.

In general, all comments will be available for inspection at www.regulations.gov. Comments, including attachments and other supporting materials, are part of the public record. Do not submit any information in your comments or supporting materials that you consider confidential or inappropriate for public disclosure.

FOR FURTHER INFORMATION CONTACT: Tyler Curtis, Director, Office of Consumer Policy, (202)-717-3754, christopher.curtis2@treasury.gov; Nora Esposito, Senior Advisor, Office of Consumer Policy, (202)-604-9307, nora.esposito@treasury.gov.

SUPPLEMENTARY INFORMATION:

I. Background

The President's Executive Order on “Modernizing Payments To and From America's Bank Account” (the E.O.) issued on March 25, 2025, requires the transition to electronic payments for all Federal disbursements and receipts by digitizing payments to the extent permissible under applicable law.¹ The policy's goals are to defend against financial fraud and improper payments, increase efficiency, reduce costs, and enhance the security of Federal payments. Effective September 30, 2025, and to the extent permitted by law, the Federal Government will cease issuing paper checks for all Federal disbursements inclusive of intragovernmental payments, benefits payments, vendor payments, and tax refunds, except as specified in the E.O.

¹ Exec. Order No. 14247, 90 FR 14001 (March 28, 2025).

As stated in the E.O.,

“the continued use of paper-based payments by the federal government, including checks and money orders, flowing into and out of the United States General Fund, which might be thought of as America's bank account, imposes unnecessary costs; delays; and risks of fraud, lost payments, theft, and inefficiencies. Mail theft complaints have increased substantially since the COVID-19 pandemic. Historically, Department of the Treasury checks are 16 times more likely to be reported lost or stolen, returned undeliverable, or altered than an electronic funds transfer (EFT). Maintaining the physical infrastructure and specialized technology for digitizing paper records cost the American taxpayer over $657 million in Fiscal Year 2024 alone.” ²

² Id. at 14001.

Further, check fraud is becoming more common, with banks issuing about 680,000 reports of check fraud in 2022—nearly double the number of check fraud reports from 2021. Digital payments are more efficient, less costly, and less vulnerable to fraud.

Among other taskings, the E.O. directs Treasury, in coordination with other agencies, “to develop and implement a comprehensive public awareness campaign to inform Federal payment recipients of the transition to electronic payments, including guidance on assessing and setting up digital payment options.” ³ The E.O. also directs Treasury to work with financial institutions, consumer groups, and other stakeholders to address financial access for unbanked and underbanked populations. This RFI will help Treasury seek stakeholder input on these directives. Additionally, the E.O. directs Treasury to review and, as appropriate, revise procedures for granting limited exceptions where electronic payment and collection methods are not feasible.

³ 90 FR 14002.

Treasury is therefore seeking information and recommendations from all interested parties on matters related to the implementation of E.O. 14247, in particular Treasury's efforts to advance a public awareness campaign that will help consumers, including unbanked and underbanked populations, transition to digital payments as contemplated by the E.O.

II. Request for Information

Treasury welcomes input on any matter that commenters believe is relevant to Treasury's role in implementing the President's Executive Order on “Modernizing Payments To and From America's Bank Account.” Commenters are invited to respond to any or all of the following questions, and to provide any other comments relevant to this work.

A. Paper Check Usage for Government Collections and Disbursements

1. What are some of the factors causing individuals and organizations to continue to use paper checks to receive or make payments to the Federal Government?

2. What barriers exist for transitioning individuals and organizations to electronic funds transfer (EFT) options?

a. Are there particular barriers preventing unbanked and underserved individuals from adopting EFT options?

b. Are there particular barriers preventing individuals who own bank accounts or small businesses from adopting EFT options?

c. Are there cases where Federal agencies do not currently provide EFT options or where information regarding EFT options is not readily available?

d. What alternatives to EFT payments should Federal agencies consider in the limited cases where electronic methods are not feasible?

2. Have there been successful campaigns in the private sector or in other areas to transition individuals from paper checks to EFT options that could inform Federal efforts?

a. Why do you think that these campaigns were successful?

b. What strategies would you recommend to Treasury?

B. Public Awareness Campaign and Stakeholder Outreach

1. What information should a public awareness campaign include and what support or tools are needed to help people transition from using paper checks to EFT options for Federal payments?

2. As Treasury coordinates with other Federal Government agencies on this public awareness campaign, what are the most effective communication channels for Federal agencies to reach program participants and other payees? Are there external entities or organizations in the private or nonprofit sectors that Federal agencies should partner with to increase awareness among beneficiaries and payees?

3. What are the best communication channels for the Federal Government to gather information from individuals who currently rely on paper checks?

4. How should Federal agencies inform the public about different EFT payment options when they choose how to make government payments?

C. Preferred EFT Methods

The E.O. discusses transitioning government payments to EFT methods, including direct deposit, debit and credit card payments, prepaid card accounts (such as Direct Express), digital wallets and real-time payment systems, and other digital payment options.

1. Which electronic payment methods are typically used to make or receive payments by the general public, unbanked individuals, and individuals who rely on paper checks from the Federal Government? Why do individuals choose these payment methods?

2. What EFT options, including those listed in the E.O., do you think the Federal Government should offer for incoming and outgoing payments, and why?

a. What are some potential risks or considerations related to offering certain EFT methods that Treasury should be aware of?

b. Are there administrative, regulatory, or statutory barriers related to offering certain types of EFT methods?

c. How can the government prevent fraud and make payments securely using these EFT options?

3. What types of organizations or partnerships could be leveraged to provide access to EFT payments for individuals or businesses that do not have bank accounts?

4. Are there additional financial products or services available to facilitate EFT methods of payment not listed in the E.O. that the public should be aware of?

D. General Comments Related to the E.O. “Modernizing Payments To and From America's Bank Account”

1. Are there any other issues related to the implementation of this E.O. that you would like to raise?

Tyler Curtis,
Director, Office of Consumer Policy.

[FR Doc. 2025-09766 Filed 5-29-25; 8:45 am]

BILLING CODE 4810-AK-P